DEPARTMENT OF AGRICULTURE

Animal and Plant Health Inspection Service

7 CFR Part 301

[Docket No. APHIS-2007-0032]

Citrus Canker; Interstate Movement of Regulated Nursery Stock From Quarantined Areas

AGENCY: Animal and Plant Health Inspection Service, USDA.

ACTION: Interim rule; extension of comment period.

SUMMARY: We are extending the comment period for our interim rule that amended the citrus canker quarantine regulations to explicitly prohibit, with limited exceptions, the interstate movement of regulated nursery stock from a quarantined area. This action will allow interested persons additional time to prepare and submit comments.

DATES: We will consider all comments that we receive on or before June 11, 2007.

ADDRESSES: You may submit comments by either of the following methods:

• Federal eRulemaking Portal: Go to http://www.regulations.gov, select “Animal and Plant Health Inspection Service” from the agency drop-down menu, then click “Submit.” In the Docket ID column, select APHIS-2007-0032 to submit or view public comments and to view supporting and related materials available electronically. Information on using Regulations.gov, including instructions for accessing documents, submitting comments, and viewing the docket after the close of the comment period, is available through the site's “User Tips” link.

• Postal Mail/Commercial Delivery: Please send four copies of your comment (an original and three copies) to Docket No. APHIS-2007-0032, Regulatory Analysis and Development, PPD, APHIS, Station 3A-03.8, 4700 River Road Unit 118, Riverdale, MD 20737-1238. Please state that your comment refers to Docket No. APHIS-2007-0032.

Reading Room: You may read any comments that we receive on Docket No. APHIS-2007-0032 in our reading room. The reading room is located in room 1141 of the USDA South Building, 14th Street and Independence Avenue, SW., Washington, DC. Normal reading room hours are 8 a.m. to 4:30 p.m., Monday through Friday, except holidays. To be sure someone is there to help you, please call (202) 690-2817 before coming.

Other Information: Additional information about APHIS and its programs is available on the Internet at http://www.aphis.usda.gov.

FOR FURTHER INFORMATION CONTACT: Mr. Stephen Poe, Senior Operations Officer, Emergency Domestic Programs, Plant Protection and Quarantine, APHIS, 4700 River Road Unit 137, Riverdale, MD 20737-1231; (301) 734-4387.

SUPPLEMENTARY INFORMATION: On March 22, 2007, we published in the Federal Register (72 FR13423-13428, Docket No. APHIS-2007-0032) an interim rule that amended the citrus canker quarantine regulations to explicitly prohibit, with limited exceptions, the interstate movement of regulated nursery stock from a quarantined area. The interim rule was effective on March 16, 2007. We took this action because the interstate movement of regulated nursery stock from an area quarantined for citrus canker poses a high risk of spreading citrus canker outside the quarantined area. The interim rule included two exceptions to the prohibition. We allowed calamondin and kumquat plants, two types of citrus plants that are highly resistant to citrus canker, to move interstate from a quarantined area under a protocol designed to ensure that they are free of citrus canker prior to movement. We also continued to allow the interstate movement of regulated nursery stock for immediate export, under certain conditions. This action was necessary to clarify our regulations and to address the risk associated with the interstate movement of regulated nursery stock from areas quarantined for citrus canker.

In an order dated April 26, 2007, the United States District Court of the Middle District of Florida, Ocala Division, instructed the U.S. Department of Agriculture to begin a new round of notice-and-comment rulemaking on the issue of the interstate movement of regulated nursery stock from areas quarantined for citrus canker.

We solicited comments on the interim rule for 60 days after its publication. Comments on the interim rule were required to be received on or before May 21, 2007. We are extending the comment period on Docket No. APHIS-2007-0032 for an additional 21 days, until June 11, 2007. This action will allow interested persons additional time to prepare and submit comments.

We encourage members of the public, including regulated industry, to submit comments regarding the interim rule, including the scientific and regulatory basis of the rule. We will carefully consider all the comments we receive. If our review of the comments indicates that changes to the regulations promulgated in the interim rule are warranted, we will amend the regulations accordingly.

Authority: 7 U.S.C. 7701-7772 and 7781-7786; 7 CFR 2.22, 2.80, and 371.3.

Section 301.75-15 issued under Sec. 204, Title II, Pub. L. 106-113, 113 Stat. 1501A-293; sections 301.75-15 and 301.75-16 issued under Sec. 203, Title II, Pub. L. 106-224, 114 Stat. 400 (7 U.S.C. 1421 note).

Done in Washington, DC, this 17th day of May 2007.
Kevin Shea,
Acting Administrator, Animal and Plant Health Inspection Service.

[FR Doc. E7-9898 Filed 5-22-07; 8:45 am]

BILLING CODE 3410-34-P